DEPARTMENT OF THE INTERIOR

National Park Service

[NPS-WASO-BSD-CONC-NPS0033333; PPWOBSADC0, PPMVSCS1Y.Y00000 (222); OMB Control Number 1024-0029]

Agency Information Collection Activities; National Park Service Concessions

AGENCY: National Park Service, Interior.

ACTION: Notice of information collection; request for comment.

SUMMARY: In accordance with the Paperwork Reduction Act of 1995, we, the National Park Service (NPS) are proposing to renew an information collection.

DATES: Interested persons are invited to submit comments on or before July 8, 2022.

ADDRESSES: Please provide a copy of your comments to the NPS Information Collection Clearance Officer (ADIR-ICCO), 12201 Sunrise Valley Drive, (MS—242) Reston, VA 20191 (mail); or phadrea_ponds@nps.gov (email). Please reference OMB Control Number “1024-0029” in the subject line of your comments.

FOR FURTHER INFORMATION CONTACT: To request additional information about this ICR by mail, contact Kurt Rausch, Contract Management Team Lead, National Park Service, 1849 C Street NW, Washington, DC 20240; or by email at kurt_rausch@nps.gov. Please reference OMB Control Number 1024-0029 in the subject line of your comments. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995, (PRA, 44 U.S.C. 3501 et seq.) and 5 CFR 1320.8(d)(1), all information collections require approval under the PRA.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Private businesses under contract to the National Park Service manage food, lodging, tours, whitewater rafting, boating, and many other recreational activities and amenities in more than 100 national parks. These services gross more than $1 billion every year and provide jobs for more than 25,000 people during peak season. The regulations at 36 CFR part 51 primarily implement Title IV of the National Parks Omnibus Management Act of 1998 (54 U.S.C., 101911 et seq., also referred to as Pub. L. 105-391), which provides legislative authority, policies, and requirements for the solicitation, award, and administration of NPS concession contracts. Furthermore, 54 U.S.C. 101911 et seq., provides that “all proposed concession contracts shall be awarded by the Secretary to the person, corporation or other entity submitting the best proposal, as determined by the Secretary through a competitive selection process. Such competitive process shall include simplified procedures for small, individually-owned, concessions contracts.”

We utilize NPS Forms 10-356, 10-356A, 10-356B, 10-357A, 10-357B, 10-358, 10-359A, and 10-359B to collect the following types of information associated with the administration of concessions:

• Description of how respondent will conduct operations to minimize disturbance to wildlife; protect park resources; and provide visitors with a high quality, safe, and enjoyable visitor experience.

• Organizational structure and history and experience with similar operations.

• Details on violations or infractions and how they were handled.

• Financial information and demonstration that respondent has credible, proven track record of meeting obligations.

Addition to the forms, the following information is collected in narrative format: (1) Amendments, (2) Appeals, (3) Request to Construct a Capital Improvement, (4) Construction Report, (5) Application to Sell or Transfer Concession Operation, and (6) Recordkeeping.

Title of Collection: National Park Service Concessions, 36 CFR 51.

OMB Control Number: 1024-0029.

Form Number: NPS Forms 10-356, 10-356A, 10-356B, 10-357A, 10-357B, 10-358, 10-359A, and 10-359B.

Type of Review: Extension of a currently approved collection.

Respondents/Affected Public: Individuals, businesses, and nonprofit organizations.

Respondent's Obligation: Required to obtain or retain a benefit.

Frequency of Collection: On occasion for proposals, amendments, and appeals; annually for financial reports; and ongoing for recordkeeping.

Total Estimated Annual Responses: 1,382.

Estimated Completion Time per Response: 0.5 hours to 800 hours depending on respondent and/or activity.

Total Estimated Annual Burden Hours: 159,892 hours.

Total Estimated Annual Nonhour Burden Cost: $425,000.

• $420,000 for proposals associated with expenses for printing, travel for onsite visits, and professional fees).

• $5,000 ($250 × 20 applications) for application to sell or transfer concession operation associated with preparing and submitting an application.

Activity | Total annual responses | Completion time per response (hours) | Total annual burden hours *
Concessioner Annual Financial Report
Form 10-356, “Concessioner Annual Financial Report” | 150 | 15 | 2,250
Form 10-356A, “Concessioner Annual Financial Report (For Concessioners with Gross Receipts Less than $500,000)” | 350 | 4 | 1,400
Form 10-356B, “Concessioner Annual Financial Report (For Concessioners with Special Accounts and Utility Add-ons)” | 30 | 2 | 60
Proposals for Concession Opportunities
Form 10-359A, “Large Concession” | 30 | 240 | 7,200
Form 10-359B, “Small Concession” | 60 | 80 | 4,800
Amendments | 1 | 1 | 1
Appeals | 1 | .5 | 1
Request to Contruct a Capital Improvement
Large Projects | 31 | 16 | 496
Small Projects | 89 | 8 | 712
Construction Report
Large Project | 31 | 56 | 1,736
Small Project | 89 | 24 | 2,136
Recordkeeping
Large Concessions | 150 | 800 | 120,000
Small Concessions | 350 | 50 | 17,500
Application to Sell or Transfer a Concession Operation | 20 | 80 | 1,600
Totals: | 1,382 |  | 159,892
* Rounded.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-09929 Filed 5-6-22; 8:45 am]

BILLING CODE 4312-52-P